DEPARTMENT OF LABOR

Occupational Safety and Health Administration

[Docket No. OSHA-2010-0033]

Agency Information Collection Activities; Announcement of the Office of Management and Budget's (OMB) Assignment of a Control Number Under the Paperwork Reduction Act

AGENCY: Occupational Safety and Health Administration (OSHA), Labor.

ACTION: Notice; announcement of OMB approval of information collection requirements.

SUMMARY: The Occupational Safety and Health Administration (OSHA) is announcing that OMB approved the information collection requirements contained in the Baseline Safety and Health Practices Survey under the Paperwork Reduction Act of 1995. This document announces the OMB approval number and expiration date.

DATES: The collections of information contained in the Baseline Safety and Health Practices become effective on April 6, 2011.

FOR FURTHER INFORMATION CONTACT: Todd Owen or Theda Kenney, Directorate of Standards and Guidance, OSHA, U.S. Department of Labor, Room N3609, 200 Constitution Avenue, NW., Washington, DC 20210; telephone (202) 693-2222.

SUPPLEMENTARY INFORMATION: In the Federal Register of August 12, 2010 (75 FR 48992), the Agency announced its request to OMB for approval of the collections of information contained in the OSHA Baseline Safety and Health Practices Survey. This survey will collect information about the safety and health practices of private sector establishments in agriculture (with 10 or more workers) and nonagriculture industries, as well as public sector establishments in those states with OSHA-approved safety and health programs (State Plan States).

In accordance with the Paperwork Reduction Act of 1995 (44 U.S.C. 3501-3520), OMB approved the collections of information contained in the Baseline Safety Practices Survey, and assigned these collections of information OMB control number 1218-0263. This approval expires on March 31, 2014. In accordance with 5 CFR 1320.5(b), an Agency may not conduct or sponsor, and a person need not respond to, a collection of information unless the collection displays a valid OMB control number.

Authority and Signature

David Michaels, PhD, MPH, Assistant Secretary of Labor for Occupational Safety and Health, directed the preparation of this notice. The authority for this notice is the Paperwork Reduction Act of 1995 (44 U.S.C. 3506 et seq.) and the Secretary of Labor's Order No. 4-2010 (75 FR 55355).

Signed at Washington, DC, on March 31, 2011.
David Michaels,
Assistant Secretary of Labor for Occupational Safety and Health.

[FR Doc. 2011-8121 Filed 4-5-11; 8:45 am]

BILLING CODE 4510-26-P